DEPARTMENT OF COMMERCE

International Trade Administration

[C-570-181, C-533-933]

Hexamethylenetetramine From the People's Republic of China and India: Postponement of Preliminary Determinations in the Countervailing Duty Investigations

AGENCY: Enforcement and Compliance, International Trade Administration, Department of Commerce.

DATES: Applicable November 21, 2024.

FOR FURTHER INFORMATION CONTACT: Megan Goins (People's Republic of China (China)) and Thomas Schauer (India), AD/CVD Operations, Enforcement and Compliance, International Trade Administration, U.S. Department of Commerce, 1401 Constitution Avenue NW, Washington, DC 20230; telephone: (202) 482-0884 and (202) 482-0410, respectively.

SUPPLEMENTARY INFORMATION:

Background

On October 21, 2024, the U.S. Department of Commerce (Commerce) initiated countervailing duty (CVD) investigations of U.S. imports of hexamethylenetetramine from China and India.¹ Currently, the preliminary determinations in these investigations are due no later than December 26, 2024.

¹ See Hexamethylenetetramine from the People's Republic of China and India: Initiation of Countervailing Duty Investigations, 89 FR 87560 (November 4, 2024).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for an extension of the period within which the determination must be made; or (B) Commerce concludes that the parties concerned are cooperating, that the investigation is extraordinarily complicated, and that additional time is necessary to make the preliminary determination. Under 19 CFR 351.205(e), the petitioner must submit a request for postponement 25 days or more before the scheduled date of the preliminary determination and must state the reasons for the request. Commerce will grant the request unless it finds compelling reasons to deny the request.

On November 14 and 15, 2024, Bakelite LLC, the petitioner in these investigations, timely requested that Commerce postpone the preliminary determinations in the investigations.² The petitioner requested postponement of the preliminary determinations in the investigations so that Commerce can fully analyze the forthcoming questionnaire responses of the mandatory respondents and issue supplemental questionnaires, as necessary.³

² See Petitioner's Letters, “Countervailing Duty Investigation of Hexamethylenetetramine from India: Request to Postpone Preliminary Determination,” dated November 14, 2024; and “Countervailing Duty Investigation of Hexamethylenetetramine from China: Request to Postpone Preliminary Determination,” dated November 15, 2024.

³ Id.

In accordance with 19 CFR 351.205(e), the petitioner submitted its request for postponement of the preliminary determinations in the investigations 25 days or more before the scheduled date of the preliminary determinations and stated the reasons for its requests. Commerce finds no compelling reason to deny the requests. Therefore, in accordance with section 703(c)(1)(A) of the Act, Commerce is postponing the deadline for the preliminary determinations in the investigations to no later than 130 days after the date on which it initiated the investigations, i.e., February 28, 2025.

Pursuant to section 705(a)(1) of the Act and 19 CFR 351.210(b)(1), the deadline for the final determinations in the investigations will continue to be 75 days after the date of the preliminary determinations.

Notification to Interested Parties

This notice is issued and published pursuant to section 703(c)(2) of the Act and 19 CFR 351.205(f)(1).

Dated: November 15, 2024.
Abdelali Elouaradia,
Deputy Assistant Secretary for Enforcement and Compliance.

[FR Doc. 2024-27282 Filed 11-20-24; 8:45 am]

BILLING CODE 3510-DS-P